DEPARTMENT OF LABOR

Employment and Training Administration

[TA-W-83,242D]

AT&T Services, Inc. Information Technology Operations Division San Ramon, California; Amended Certification Regarding Eligibility To Apply for Worker Adjustment Assistance

In accordance with Section 223 of the Trade Act of 1974, as amended (“Act”), 19 U.S.C. 2273, the Department of Labor issued a Certification of Eligibility to Apply for Worker Adjustment Assistance on February 21, 2014, applicable to workers of AT&T Services, Inc., Information Technology Operations Division, including on-site leased workers from Accenture LLP, OnX USA LLC (Formerly Agilysys), and IBM Corporation, Atlanta, Georgia (TA-W-83,242), AT&T Services, Inc., Information Technology Operations Division, including on-site leased workers from Accenture LLP, OnX USA LLC (Formerly Agilysys), IBM Corporation, Paragon Computer Professional, Inc., Cisco Systems, Inc., Paragon Solutions and Wavecreste, Inc., (Formerly Genesis Networks Inc.,), Middletown, New Jersey (TA-W-83,242A), AT&T Services, Inc., Information Technology Operations Division, Columbus, Ohio (TA-W-83,242B), and AT&T Services, Inc., Information Technology Operations Division, including on-site leased workers from IBM Corporation, Dallas, Texas (TA-W-83,242C). The Department's Notice of Determination was published in the Federal Register on March 14, 2014 (79 FR 05545).

In response to a petition (TA-W-85,434) filed on behalf of workers at AT&T, San Ramon, California, the Department reviewed the certification for workers of the subject firm. The workers were engaged in the supply of telecommunications services.

The investigation confirmed that worker separations at AT&T Services, Information Technology Operations Division, San Ramon, California are attributable to the same acquisition of services that contributed importantly to separations at the four certified locations. Based on these findings, the Department is amending this certification to include workers located at AT&T Services, Inc., Information Technology Operations Division, San Ramon, California.

The amended notice applicable to TA-W-83,242 is hereby issued as follows:

“All workers of AT&T Services, Inc., Information Technology Operations Division, including on-site leased workers from Accenture LLP, OnX USA LLC (Formerly Agilysys), and IBM Corporation, Atlanta, Georgia (TA-W-83,242), AT&T Services, Inc., Information Technology Operations Division, including on-site leased workers from Accenture LLP, OnX USA LLC (Formerly Agilysys), IBM Corporation, Paragon Computer Professional, Inc., Cisco Systems, Inc., Paragon Solutions and Wavecreste, Inc., (Formerly Genesis Networks Inc.,), Middletown, New Jersey (TA-W-83,242A), AT&T Services, Inc., Information Technology Operations Division, Columbus, Ohio (TA-W-83,242B), and AT&T Services, Inc., Information Technology Operations Division, including on-site leased workers from IBM Corporation, Dallas, Texas (TA-W-83,242C) and AT&T Services, Inc., Information Technology Operations Division, San Ramon, California (TA-W-83,242D), who became totally or partially separated from employment on or after November 22, 2012, through February 21, 2016, and all workers in the group threatened with total or partial separation from employment on the date of certification through two years from the date of certification, are eligible to apply for adjustment assistance under Chapter 2 of Title II of the Trade Act of 1974, as amended.”

Signed in Washington, DC this 15th day of August, 2014.
Michael W. Jaffe,
Certifying Officer, Office of Trade Adjustment Assistance.

[FR Doc. 2014-21624 Filed 9-10-14; 8:45 am]

BILLING CODE 4510-FN-P